DEPARTMENT OF ENERGY

Federal Energy Regulatory Commission

[Docket No. CP01-415-000]

East Tennessee Natural Gas Company Notice of Intent To Prepare an Environmental Impact Statement for the Proposed Patriot Project, Request for Comments on Environmental Issues, and Notice of Public Scoping Meetings and Site Visit

October 2, 2001.

The staff of the Federal Energy Regulatory Commission (FERC or Commission) will prepare an environmental impact statement (EIS) that will discuss the environmental impacts of the East Tennessee Natural Gas Company's (East Tennessee) Patriot Project in Tennessee, Virginia, and North Carolina.¹ The proposed facilities consist of an expansion of the existing mainline that would include replacement, looping, and uprating of about 187 miles of pipeline and the addition of 71,710 horsepower (hp) of compression at 5 new and 10 existing compressor stations, and an extension of the mainline that would include 99.63 miles of new pipeline. This EIS will be used by the Commission in its decision-making process to determine whether the project is in the public convenience and necessity.

¹ East Tennessee's application in Docket No. CP01-415-000 was filed with the Commission under section 7(c) of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with applicable state laws.

A fact sheet prepared by the FERC entitled “An Interstate Natural Gas Facility on My Land? What Do I Need To Know?” should have been attached to the project notice East Tennessee provided to landowners. This fact sheet addresses a number of typically asked questions, including the use of eminent domain and how to participate in the Commission's proceedings. The fact sheet is available for viewing on the FERC Internet website (http://www.ferc.gov).

This notice is being sent to affected landowners along East Tennessee's route; Federal, state, and local government agencies; elected officials; environmental and public interest groups; Native American tribes that might attach religious and cultural significance to historic properties in the area of potential effect; local libraries and newspapers; and the Commission's list of parties to the proceeding. We ² encourage government representatives to notify their constituents of this proposed action and encourage them to comment on their areas of concern. Additionally, with this notice, we are asking other Federal, state, local, and tribal agencies with jurisdiction and/or special expertise with respect to environmental issues in the project area to cooperate with us in the preparation of the EIS. These agencies may choose to participate once they have evaluated East Tennessee's proposal relative to their responsibilities. Agencies who would like to request cooperating status should follow the instructions for filing comments described later in this notice.

² “We”, “us”, and “our” refer to the environmental staff of the Office of Energy Projects (OEP).

Summary of the Proposed Project

East Tennessee wants to expand the capacity of its facilities to transport up to 510,000 dekatherms per day (dth/day) of natural gas to four local distribution companies and three power plants. East Tennessee seeks authority to construct and operate the Patriot Project that consists of two components: the Mainline Expansion and the Mainline Extension.

A. Mainline Expansion, which involves improvements along East Tennessee's existing pipeline in Tennessee and Virginia includes:

a. a total of about 85 miles of loop ³ (20 and 24-inch-diameter) in Franklin, Grundy, Hamilton, Knox, Marion, Sequatchie, and Sullivan Counties, Tennessee, and Smyth, Washington, and Wythe Counties, Virginia;

³ A loop is a segment of pipeline that is usually installed adjacent to an existing pipeline and connected to it at both ends. The loop allows more gas to be moved through the pipeline.

b. about 24.7 miles of 24-inch-diameter pipeline to replace existing smaller diameter pipelines in Smyth, Washington, and Wythe Counties, Virginia;

c. hydrostatic pressure testing of about 77.3 miles of existing pipeline ⁴ to increase the maximum allowable operating pressure (MAOP) of the pipeline in Fentress, Greene, Grundy, Hamilton, Jackson, Morgan, Roane, Sevier and Washington Counties, Tennessee;

⁴ Work would not take place over the entire length of the uprate, but would include land disturbance at specific locations for the installation of manifolds at the hydrostatic test sites; replacement of mainline and side valves; and replacement of short sections of pipeline at road crossings.

d. five new compressor stations in Fentress, Green, Jackson, Jefferson, and Hamilton Counties, Tennessee, and changes at 10 existing compressor stations in Blount, Macon, Monroe, Sevier, Sullivan, Trousdale, and Verton Counties, Tennessee, and Washington and Wythe Counties, Virginia; and

e. associated mainline valves, piping, and appurtenant pipeline facilities.

B. Mainline Extension which includes construction of:

a. about 92.6 miles of 24-inch-diameter pipeline extending through Wythe, Carroll, Floyd, Patrick, and Henry Counties, Virginia to a new terminus at an interconnection with Transcontinental Gas Pipe Line Corporation's (Transco) system in Rockingham County, North Carolina;

b. about 7 miles of 16-inch-diameter pipeline to a power plant under development by Henry County Power, LLC, in Henry County, Virginia;

c. 3 new meter stations: DENA Wythe Energy Meter Station, Henry County Power Meter Station, and Transco Meter Station; and

d. associated mainline valves and appurtenant pipeline facilities.

Nonjurisdictional Facilities:

Wythe and Henry County Power Energy Projects, respectively) that would be constructed in southwest Virginia. In addition, the Patriot Project would provide supply to the DENA Murray LLC facility, which is currently under construction in Georgia.

A general overview map of the major project facilities is shown in appendix 1.⁵ If you are interested in obtaining detailed maps of a specific portion of the project, follow instructions provided in appendix 4. A listing of the facilities is in appendix 2.

⁵ The appendices referenced in this notice are not being printed in the Federal Register. Copies are available on the Commission's website at the “RIMS” link or from the Commission's Public Reference and Files Maintenance Branch, 888 First Street, NE, Room 2A, Washington, DC 20426, or call (202) 208-1371. For instructions on connecting to RIMS, refer to the last page of this notice. Copies of the appendices were sent to all those receiving this notice in the mail.

Land Requirements for Construction

Construction of East Tennessee's proposed facilities would require about 2,786.4 acres (including compressor stations, meter stations, and 116.2 acres of additional temporary work spaces) of land of which about 766.1 acres are within existing easements. Following construction, about 635.4 acres would be retained as new permanent right-of-way. The remaining 1,384.9 acres of temporary work space would be restored and allowed to revert to former use.

The nominal construction right-of-way for the pipeline would be 100 feet wide, with 50 feet retained as permanent right-of-way where new right-of-way would be required. About 68 percent of the pipeline route (over 99 percent of the Mainline Expansion and about 10 percent of the Mainline Extension) would be adjacent to existing rights-of-way.

Construction would disturb 1,269.9 acres of agricultural land, 145.3 acres of non-forested open space, 1,076.1 acres of woodland, 178.9 acres of developed land, and 116.2 acres of additional work spaces in several counties in Tennessee, Virginia, and North Carolina.

The EIS Process

The National Environmental Policy Act (NEPA) requires the Commission to take into account the environmental impacts that could result from an action whenever it considers the issuance of a Certificate of Public Convenience and Necessity. NEPA also requires us to solicit and address concerns the public may have about proposals. We call this “scoping.” The main goal of the scoping process is to focus the EIS on the important environmental issues. By this Notice of Intent, the Commission is requesting public comments on the scope of the issues it will address in the EIS. All comments received are considered during the preparation of the EIS.

We will also evaluate possible alternatives to the proposed project or portions of the project, and make recommendations on how to avoid impacts on various resource areas.

Our independent analysis of the issues will result in the publication of a draft EIS that will be mailed to Federal, state, and local government agencies; Native American tribes; elected officials; public interest groups; interested individuals; affected landowners; newspapers; libraries; and the Commission's official service list for this proceeding. A 45-day comment period will be allotted for review of the draft EIS. We will consider all comments on the draft EIS and revise the document, as necessary, before issuing a final EIS. The final EIS will include our response to all comments received on the draft EIS and will be used by the Commission in its decision-making process to determine whether to approve the project.

To ensure your comments are considered, please carefully follow the instructions in the Public Participation and Scoping Meeting section of this notice.

Currently Identified Environmental Issues

We have already identified several issues that we think deserve attention based on a preliminary review of the proposed facilities, the environmental information provided by East Tennessee, and early input from intervenors. This preliminary list of issues may be changed based on your comments and our analysis.

• Geology and Soils:

—Potential impacts associated with blasting

—Potential geologic hazards, including karst terrain

—Effects on soils

Water Resources and Wetlands:

—Potential effects on groundwater resources

—Effects on 243 perennial streams

—Effects on 5 waterbodies greater than 100 feet in width (Elk River and South Fork Holston River in Tennessee, and Reed Creek, New River, and Smith River in Virginia)

—Effects on 18.2 acres of wetlands

• Vegetation and Wildlife:

—Effect on vegetation, wildlife, and fisheries resources

• Endangered and Threatened Species:

—Potential effect on 17 federally listed species and 1 Federal candidate species that may occur in the project area

• Cultural Resources:

—Effect on archaeological sites and other historic properties.

• Land Use, Recreation, and Visual Resources:

—Potential impacts on residential areas

—Effects on the Jefferson National Forest, Appalachian Trail, Blue Ridge Parkway, and New River Trail State Park

—Visual effects of the aboveground facilities on surrounding areas

• Socioeconomics:

—Effects of construction workforce in migration

• Air and Noise Quality:

—Effects on air and noise quality from construction and operation of the compressor stations

• Reliability and Safety:

—Assessment of public safety factors associated with natural gas pipelines

• Alternatives:

—Assessment of alternative routes, systems or energy sources to reduce or avoid environmental impacts

Public Participation

You can make a difference by providing us with your specific comments or concerns about the project. By becoming a commentor, your concerns will be addressed in the EIS and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426;

• Refer to Docket No. CP01-415-000;

• Label one copy of the comments for the attention of the Gas Branch 2, PJ 11.2; and

• Mail your comments so that they will be received in Washington, DC on or before October 31, 2001.

Comments may also be filed electronically via the Internet in lieu of paper. See 18 CFR 385.2001(a)(1)(iii) and the instructions on the Commission's web site at http://www.ferc.gov under the “e-Filing” link and the link to the User's Guide. Before you can file comments you will need to create an account by clicking on Login to File and then “New User Account”.

Everyone who responds to this notice or comments throughout the EIS process will be retained on our mailing list. If you do not want to send comments at this time but still want to keep informed and receive copies of the draft and final EIS, please return the Information Request (appendix 4). You must send comments or return the Information Request for your name to remain on the mailing list.

Public Scoping Meetings and Site Visit

In addition to or in lieu of sending written comments, we invite you to attend the public scoping meetings that the FERC will conduct in the Mainline Extension area of the Patriot Project. The locations and times for these meetings are listed below.

Monday October 15—Stuart, Patrick County High School, 215 Cougar Lane, Stuart, VA 24171, (276) 694-7137

Tuesday October 16—Wytheville, George Wythe High School, #1 Maroon Way, Wytheville, VA 24382, (276) 228-3157—Renee Jones

Wednesday October 17—Bristol City, Bristol City Schools, 615 Edgemont Avenue, Bristol, TN 37620, (423) 652-9447—Facility Supervisor Jim Arnold

Thursday October 18—Chattanooga, East Ridge High School, 4320 Bennett Road, Chattanooga, TN 37412-2299, (423) 887-6200—Kim Gatewood

The public scoping meetings are designed to provide you with more detailed information and another opportunity to offer your comments on the proposed project. East Tennessee representatives will be present at the scoping meetings to describe their proposal. Interested groups and individuals are encouraged to attend the meetings and to present comments on the environmental issues they believe should be addressed in the draft EIS. A transcript of each meeting will be made so that your comments will be accurately recorded.

On the dates of the meetings, we will also be conducting limited site visits of the project area. Anyone interested in participating in the site visits may contact the Commission's Office of External Affairs at (202) 208-1088 for more details and must provide their own transportation.

Becoming an Intervenor

In addition to involvement in the EIS scoping process, you may want to become an official party to the proceeding, known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 3).⁶ Only intervenors have the right to seek rehearing of the Commission's decision.

⁶ Interventions may also be filed electronically via the Internet in lieu of paper. See the previous discussion on filing comments electronically.

Affected landowners and parties with environmental concerns may be granted intervenor status upon showing good cause by stating that they have a clear and direct interest in this proceeding that would not be adequately represented by any other parties. You do not need intervenor status to have your environmental comments considered.

Availability of Additional Information

Additional information about the proposed project is available from the Commission's Office of External Affairs (202) 208-1088 or on the FERC website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS Menu, and follow the instructions. For assistance with access to CIPS, the CIPS helpline can be reached at (202) 208-2222.

David P. Boergers,
Secretary.

[FR Doc. 01-25199 Filed 10-5-01; 8:45 am]

BILLING CODE 6717-01-P